DEPARTMENT OF COMMERCE

International Trade Administration

The University of Texas at Austin, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC.

Docket Number: 10-064. Applicant: The University of Texas at Austin, Center for Electromechanics, Pickle Research Campus, 10100 Burnet Road, Building 133, Austin, Texas 78758-4497. Instrument: Hexapod Actuators. Manufacturer: ADS International, S.r.l., Italy. Intended Use: See notice at 75 FR 67949, November 4, 2010. Comments: None received. Decision: Approved. We know of no instruments of equivalent scientific value to the foreign instruments described below, for such purposes as this is intended to be used, that was being manufactured in the United States at the time of its order. Reasons: The instrument is unique because of its ability to achieve the desired accuracy of +/−2 microns, the stiffness of 400 N/micron, the end mounts ability to rotate up to +/−20 degrees in two axes and a stiffness of 250 N/micron, is actively cooled, and is able to generate 30kN of continuous force for extended periods of time. We know of no instrument, suited to these purposes that was being manufactured in the United States at the time of order of this instrument.

Dated: December 3, 2010.
Gregory W. Campbell,
Director, Subsidies Enforcement Office, Import Administration.

[FR Doc. 2010-30988 Filed 12-8-10; 8:45 am]

BILLING CODE 3510-DS-P